DEPARTMENT OF THE INTERIOR

Bureau of Land Management

[OR-027-1020-PH-029H; HAG 07-0019]

Meeting Notice for the Southeast Oregon Resource Advisory Council

AGENCY: Bureau of Land Management, Department of the Interior.

ACTION: Notice.

SUMMARY: The Southeast Oregon Resource Advisory Council (SEORAC) will hold a meeting Thursday, November 16 from 8 a.m. to 3 p.m., at the U.S. Bureau of Land Management (BLM) Burns District Office, 28910 Hwy 20 West in Hines.

Agenda items for the 1-day meeting include updates on the Grazing Administration Rule and associated litigation, the Off-Highway Vehicle/Transportation Strategy for Oregon and Washington public lands, the Wind Energy and Energy Corridors Environmental Impact Statements, the Wild Horse Program, and the Malheur National Forest Plan. Council members will also hear a presentation on southeast Oregon's wild horses and their importance to area heritage, give liaison and sub-group reports, elect officers for the upcoming year, develop agenda items for the February meeting, and establish dates and locations for the 2007 schedule. Any other matters that may reasonably come before the SEORAC may also be addressed.

The public is welcome to attend all portions of the meeting and may contribute during the public comment period at 1 p.m. Those who verbally address the SEORAC during the public comment period are asked to also provide a written statement of their comments or presentation. Unless otherwise approved by the SEORAC Chair, the public comment period will last no longer than 30 minutes, and each speaker may address the SEORAC for a maximum of 5 minutes.

If you have information you would like distributed to RAC members, please send it to Tara Wilson at the Burns District Office, 28910 Hwy 20 West, Hines, Oregon 97738, prior to the start of the meeting. If you send information or general correspondence to anyone at the Burns District Office and would like a copy given to the RAC, please write “COPY TO RAC” on the envelope and enclosed document(s).

The SEORAC consists of 15 members chartered and appointed by the Secretary of the Interior. Their diverse perspectives are represented in commodity, conservation, and general interests. They provide advice to BLM and Forest Service resource managers regarding management plans and proposed resource actions on public land in southeast Oregon.

FOR FURTHER INFORMATION CONTACT: Tara Wilson, SEORAC Facilitator, Burns District Office, 28910 Hwy 20 West, Hines, Oregon 97738, (541) 573-4519, or Tara_Wilson@blm.gov.

Dated: November 3, 2006.
Dana R. Shuford,
District Manager.

[FR Doc. E6-19019 Filed 11-8-06; 8:45 am]

BILLING CODE 4310-33-P